DEPARTMENT OF HOMELAND SECURITY

Federal Emergency Management Agency

44 CFR Part 64

[Docket ID FEMA-2010-0003; Internal Agency Docket No. FEMA-8123]

Suspension of Community Eligibility

Correction

In rule document 2010-6632 beginning on page 14356 in the issue of Thursday, March 25, 2010 make the following corrections:

(1) The department docket number is corrected to read as set forth above.

(2) On page 14357, in the fourth column, under the heading “Current effective map date”, the date should read April 5, 2010.

[FR Doc. C1-2010-6632 Filed 3-29-10; 8:45 am]

BILLING CODE 1505-01-D